DEPARTMENT OF COMMERCE

Minority Business Development Agency

Agency Information Collection Activities; Submission to the Office of Management and Budget (OMB) for Review and Approval; Comment Request; Asian American Pacific Islander Commission Survey

AGENCY: Minority Business Development Agency (MBDA), Commerce.

ACTION: Notice and request for comment.

SUMMARY: The Department of Commerce, in accordance with the Paperwork Reduction Act of 1995 (PRA), invites the general public and other Federal agencies to comment on proposed, and continuing information collections, which helps us assess the impact of our information collection requirements and minimize the public's reporting burden. The Asian American Pacific Islander (AAPI) Commission (Commission) will conduct a survey of AAPI business owners to determine the impact of the COVID-19 pandemic on business operations and the AAPI community. The purpose of this notice is to allow for 60 days of public comment preceding submission of the collection to OMB.

DATES: To ensure consideration, comments regarding this proposed information collection must be received on or before February 26, 2021.

ADDRESSES: Interested persons are invited to submit written comments to the MBDA PRA Clearance Liaison at PRAcomments@doc.gov. Please reference OMB Control Number 0648- 0618 in the subject line of your comments. Do not submit Confidential Business Information or otherwise sensitive or protected information.

FOR FURTHER INFORMATION CONTACT: Requests for additional information or specific questions related to collection activities should be directed to Tina Wei Smith, Executive Director, White House Initiative on Asian American and Pacific Islanders (WHIAAPI), 1401 Constitution Avenue NW, Washington, DC 20230, (202) 482-1375, or whiaapi@doc.gov.

SUPPLEMENTARY INFORMATION:

I. Abstract

The President, through Executive Order 13872 (May 13, 2019), re-established the President's Advisory Commission on Asian Americans and Pacific Islanders (AAPI Advisory Commission or Commission) to advise the President, through the Secretary of Commerce and the Secretary of Transportation, as Co-Chairs of the Initiative. The AAPI Advisory Commission provides advice to the President on executive branch efforts to broaden access of AAPI communities, families, and businesses to economic resources and opportunities that empower AAPIs to improve the quality of their lives, raise the standard of living of their communities and families, and more fully participate in the U.S. economy. Additionally, the Commission works to advance relevant evidence-based research, data collection, and analysis for AAPI populations, subpopulations, and businesses.

As part of the research agenda to advise the President, a contractor hired by the Commission intends to conduct telephone interviews with an estimated 10,000 persons to obtain a sample size of 1000 AAPI business owners regarding the economic impact of the COVID-19 pandemic on AAPI businesses and determine the economic and social impact of COVID-19 on AAPI business owners as individuals, members of families, and of the AAPI community.

Methodology: On behalf of the AAPI Commission, a contractor will select a random sample of registered voters, modeled as potential Business Owners and Asians, from the National voter file using Registration Based Sampling (RBS), targeting the age group aligned with the most recent Census American Community Survey data and 50 percent women. This methodology will avoid extreme usage of post-survey “weighting” to ensure the reliability of survey results.

II. Method of Collection

Information will be collected via telephone interviews.

III. Data

OMB Control Number: New collection.

Form Number(s): None.

Type of Review: Regular submission.

Affected Public: Individuals or households; Business or other for-profit organizations; Not-for-profit institutions.

Estimated Number of Respondents: 10,000.

Estimated Time Per Response: 1 minute to 15 minutes, depending upon respondent.

Estimated Total Annual Burden Hours: 250.

Estimated Total Annual Cost to Public: 0.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-28546 Filed 12-23-20; 8:45 am]

BILLING CODE 3510-21-P